DEPARTMENT OF ENERGY

Federal Energy Regulatory Commission

[Docket No. IC06-505-000; FERC-505]

Commission Information Collection Activities, Proposed Collection; Comment Request; Extension

March 21, 2006.

AGENCY: Federal Energy Regulatory Commission.

ACTION: Notice.

SUMMARY: In compliance with the requirements of section 3506(c)(2)(a) of the Paperwork Reduction Act of 1995 (Pub. L. 104-13), the Federal Energy Regulatory Commission (Commission) is soliciting public comment on the specific aspects of the information collection described below.

DATES: Comments on the collection of information are due May 21, 2006.

ADDRESSES: Copies of sample filings of the proposed collection of information can be obtained from the Commission's Web site (http://www.ferc.gov/docs-filing/elibrary.asp) or from the Federal Energy Regulatory Commission, Attn: Michael Miller, Office of the Executive Director, ED-34, 888 First Street, NE., Washington, DC 20426. Comments may be filed either in paper format or electronically. Those parties filing electronically do not need to make a paper filing. For paper filing, the original and 14 copies of such comments should be submitted to the Secretary of the Commission, Federal Energy Regulatory Commission, 888 First Street, NE., Washington, DC 20426 and refer to Docket No. IC06-505-000.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgement to the sender's e-mail address upon receipt of comments.

All comments may be viewed, printed or downloaded remotely via the Internet through FERC's homepage using the eLibrary link. For user assistance, contact FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC-505 “Application for License for Water Projects with less than 5MW capacity” (OMB No. 1902-0115) is used by the Commission to implement the statutory provisions of Part I of the Federal Power Act (FPA), 16 U.S.C. sections 791a et seq. & 3301-3432, as amended by the Electric Consumers Protections Act (ECPA) (Pub. L. 99-495, 100 Stat. 1234 (1986). The FPA as amended by ECPA provides the Commission with the responsibility of issuing licenses for nonfederal hydroelectric power plants, plus requiring the Commission in its licensing activities to give equal consideration to preserving environmental quality. ECPA also amended sections 10(a) and 10(j) of the FPA to specify the conditions on which hydropower licenses are issued, to direct that the project be adopted in accordance with a comprehensive plan that improves waterways for interstate/foreign commerce and for the protection, enhancement and mitigation of damages to fish and wildlife.

Submission of the information is necessary to fulfill the requirements of Sections 9 and 10(a) of the Act in order for the Commission to make the required finding that the proposal is economically, technically, and environmentally sound, and is best adapted to the comprehensive plan of development of the water resources of the region. Under section 405(c) of the Public Utilities Regulatory Policies Act of 1978, the Commission may in its discretion (by rule or order) grant an exemption in whole or in part from the requirements of Part I of the FPA to small hydroelectric power projects having a proposed installed capacity of 5,000 kilowatts or less. The information collected under designation FERC-505 is in the form of a written application for a license and is used by Commission staff to determine the broad impact of the license application.

In Order No. 2002 (68 FR 51070, August 25, 2003; FERC Statutes and Regulations ¶ 31,150 at p. 30,688) the Commission revised in regulations to create a new licensing process in which a potential license applicant's pre-filing consultation and the Commission's scoping pursuant to the National Environmental Policy Act (NEPA) are conducted concurrently rather than sequentially. The Commission estimated that if an applicant chooses to use the new licensing process, this could result in a reduction of 30% from the traditional licensing process. The reporting burden related to Order No. 2002 would on average be 7,000 hours per respondent as opposed to 10,000 hours per respondent in the traditional licensing process and 8,600 hours in the alternative licensing process. It has been nearly three years since Order No. 2002 was issued and applicants have experienced the opportunity to gain the benefits from the revised licensing process. In particular, applicants have benefited from (a) increased public participation in pre-filing consultation; (b) increased assistance from Commission staff to the potential applicant and stakeholders during the development of a license application; (c) development by the potential applicant of a Commission-approved study plan; (d) elimination of the need for post-application study requests; (e) issuance of public schedules and enforcement of deadlines, (f) better coordination between the Commission's processes, including the NEPA document preparation, and those of Federal and state agencies and Indian tribes with authority to require conditions for Commission-issued licenses. It is for these reasons, that the Commission will use the estimates projected in the table below.

The information collected is needed to evaluate the license application pursuant to the comprehensive development standard of FPA sections 4(e) and 10(a)(1), to consider the comprehensive development analysis certain factors with respect to new license set forth in section 15, and to comply with NEPA, Endangered Species Act (16 U.S.C. 531 et seq.) and the National Historic Preservation Act (16 U.S.C. 470 et seq.).

Commission staff conducts a systematic review of the prepared application with supplemental documentation provided by the solicitation of comments from other agencies and the public. The Commission implements these filing requirements in the Code of Federal Regulations (CFR) under 18 CFR 4.61; 4.71; 4.93; 4.107; 4.108; 4.201; 4.202, 292.203 and 292.208.

Action: The Commission is requesting a three-year extension of the current expiration date, with no changes to the existing collection of data.

Burden Statement: Public reporting burden for this collection is estimated as:

Number of respondents annually (1) | Number of responses per respondent (2) | Average burden hours per response (3) | Total annual burden hours (1)×(2)×(3)
5 | 1 | 6,959* | 34,795
* Rounded off.

Estimated cost burden to respondents is $ 8,675,000. ($1,500,000 (traditional process) + $2,975,000 (alternative process) + $4,200,000 (integrated process). These costs were determined by the percentage of applicants that would be using each of these processes. Annualized costs per project $500,000 (traditional); $425,000 (alternative licensing), and $350,000 (integrated licensing).

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities, which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

Magalie R. Salas,
Secretary.

[FR Doc. E6-4460 Filed 3-27-06; 8:45 am]

BILLING CODE 6717-01-P